DEPARTMENT OF TRANSPORTATION

Federal Aviation Administration

[Summary Notice No. PE-2001-49]

Petitions for Exemption; Summary of Dispositions of Petitions Issued

AGENCY: Federal Aviation Administration (FAA), DOT.

ACTION: Notice of Dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR §§ 11.85 and 11.91.

Issued in Washington, D.C., on June 28, 2001.
Donald P. Byrne,
Assistant Chief Counsel for Regulations.

Dispositions of Petitions

Docket No.: FAA-2001-9134.

Petitioner: Aviation Services, Ltd. dba Freedom Air.

Section of 14 CFR Affected: 14 CFR § 121.314(c).

Description of Relief Sought/Disposition: To permit Freedom Air's one Model SD3-30 airplane to operate through April 15, 2002, or through the 30th day after delivery to Freedom Air of the aircraft modification kit by the aircraft manufacturer, whichever is sooner.

Partial Grant, 06/18/2001, Exemption No. 7466.

Docket No.: FAA-2001-8933.

Petitioner: Pacific Island Aviation, Inc.

Section of 14 CFR Affected: 14 CFR §§ 25.857(c).

Description of Relief Sought/Disposition: To permit PIVA's three Model SD3-60 airplanes to operate through April 15, 2002, or through the 30th day after delivery to PIVA of the aircraft modification kits by the aircraft manufacturer, whichever is sooner.

Grant, 06/18/2001, Exemption No. 7465A.

[FR Doc. 01-16713 Filed 7-2-01; 8:45 am]

BILLING CODE 4910-13-M